DEPARTMENT OF TRANSPORTATION

Federal Aviation Administration

14 CFR Part 39

[Docket No. FAA-2010-0272; Directorate Identifier 2010-CE-009-AD; Amendment 39-16310; AD 2010-11-05]

RIN 2120-AA64

Airworthiness Directives; AVOX Systems and B/E Aerospace Oxygen Cylinders as Installed on Various 14 CFR Part 23 and CAR 3 Airplanes

AGENCY: Federal Aviation Administration (FAA), Department of Transportation (DOT).

ACTION: Final rule.

SUMMARY: We are adopting a new airworthiness directive (AD) for certain AVOX Systems and B/E Aerospace oxygen cylinders, as installed on various 14 CFR part 23 or CAR 3 airplanes. This AD requires you to inspect for and remove substandard oxygen cylinders from the airplane. This AD was prompted by the reported rupture of a high-pressure gaseous oxygen cylinder, which had insufficient strength characteristics due to improper heat treatment. We are issuing this AD to prevent an oxygen cylinder from rupturing, which, depending on the location, could result in structural damage and rapid decompression of the airplane, damage to adjacent essential flight equipment, deprivation of the necessary oxygen supply for the flightcrew, and injury to cabin occupants or other support personnel.

DATES: This AD becomes effective on July 6, 2010.

On July 6, 2010, the Director of the Federal Register approved the incorporation by reference of certain publications listed in this AD.

ADDRESSES: For service information identified in this AD, contact B/E Aerospace, Inc., Commercial Aircraft Products Group, RGA Department, 10800 Pflumm Road, Lenexa, Kansas 66215; telephone: (913) 338-9800; fax: (913) 338-8419; Internet: http://www.beaerospace.com; and AVOX Systems, 225 Erie Street, Lancaster, New York 14086-9502; telephone: (716) 683-5100; fax: (716) 681-1089; Internet: http://www.avoxsys.com, as applicable.

To view the AD docket, go to U.S. Department of Transportation, Docket Operations, M-30, West Building Ground Floor, Room W12-140, 1200 New Jersey Avenue, SE., Washington, DC 20590, or on the Internet at http://www.regulations.gov. The docket number is FAA-2010-0272; Directorate Identifier 2010-CE-009-AD.

FOR FURTHER INFORMATION CONTACT: David Hirt, Aerospace Engineer, FAA, Small Airplane Directorate, 901 Locust, Room 301, Kansas City, Missouri 64106; telephone: (816) 329-4050; fax: (816) 329-4090; e-mail: david.hirt@faa.gov.

SUPPLEMENTARY INFORMATION:

Discussion

On March 11, 2010, we issued a proposal to amend part 39 of the Federal Aviation Regulations (14 CFR part 39) to include an AD that would apply to certain AVOX Systems and B/E Aerospace oxygen cylinders, as installed on various 14 CFR part 23 or CAR 3 airplanes. This proposal was published in the Federal Register as a notice of proposed rulemaking (NPRM) on March 17, 2010 (75 FR 12713). The NPRM proposed to require removing the affected oxygen cylinder from various 14 CFR part 23 or CAR 3 airplanes and replacing it with a serviceable oxygen cylinder.

Comments

We provided the public the opportunity to participate in developing this AD. We received no comments on the proposal or on the determination of the cost to the public.

Conclusion

We have carefully reviewed the available data and determined that air safety and the public interest require adopting the AD as proposed except for minor editorial corrections. We have determined that these minor corrections:

• Are consistent with the intent that was proposed in the NPRM for correcting the unsafe condition; and

• Do not add any additional burden upon the public than was already proposed in the NPRM.

Costs of Compliance

We estimate that this AD will affect 10,000 airplanes in the U.S. registry.

We estimate the following costs to do the inspection:

Labor cost | Parts cost | Total cost per airplane | Total cost on U.S. operators based on all airplanes having the affected oxygen cylinder installed
0.5 work-hour × $85 per hour = $42.50 | Not applicable | $42.50 | $425,000

We estimate the following costs to do any necessary removal and replacement that will be required based on the results of the inspection. We have no way of determining the number of airplanes that may need this replacement:

Labor cost | Parts cost | Total cost per airplane
2 work-hours × $85 per hour = $170 | $1,675 | $1,845

Authority for This Rulemaking

Title 49 of the United States Code specifies the FAA's authority to issue rules on aviation safety. Subtitle I, section 106 describes the authority of the FAA Administrator. Subtitle VII, Aviation Programs, describes in more detail the scope of the agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

We have determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD (and other information as included in the Regulatory Evaluation) and placed it in the AD Docket. You may get a copy of this summary by sending a request to us at the address listed under ADDRESSES. Include “Docket No. FAA-2010-0272; Directorate Identifier 2010-CE-009-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding the following new AD:

2010-11-05 AVOX Systems and B/E Aerospace: Amendment 39-16310; Docket No. FAA-2010-0272; Directorate Identifier 2010-CE-009-AD.

Effective Date

(a) This AD becomes effective on July 6, 2010.

Affected ADs

(b) None.

Applicability

(c) This AD applies to oxygen cylinders with a capacity of 114/115 cubic feet, approved under United States Department of Transportation Regulations for Type 3HT cylinders, identified in Table 1 of this AD. These oxygen cylinders may be installed on various 14 CFR part 23 and CAR 3 airplanes, certificated in any category. The affected oxygen cylinders may be installed as a component of, but not limited to, the AVOX Systems Inc. and B/E Aerospace cylinder assemblies listed in Table 2 of this AD.

Table 1—Affected Oxygen Cylinder Serial Numbers (S/N)
Cylinder manufacturer | Affected S/N
AVOX Systems | ST82307 through ST82309.
| ST82335 through ST82378.
| ST82385 through ST82506, except ST82498 (out of service).
| ST82550 through ST82606.
| ST82617 through ST82626.
| ST83896 through ST83905.
| ST84209 through ST84218.
| ST84224 through ST84236.
| ST86138, ST86143, ST86145, ST86150, ST86169, ST86172, and ST86177.
| ST86299 through ST86307.
B/E Aerospace | K495120 through K495121.
| K629573 through K629577.
| K674451 through K674455.

Table 2—Affected Oxygen Cylinder Assembly Part Numbers (P/N)
Manufacturer | P/Ns
AVOX Systems | *6350A34 series, 800112-03, 800112-10, 800112-13, 801293-03, 801307-00, 801307-01, 801307-02, 801307-03, 801307-07, 801307-09, 801307-23, 801307-24, 801365-04, 801365-14, 801375-00, 801977-05, and *8915 series. (*For example, 6350A34-X-X or 8915XX-XX, where “X” denotes a P/N digit.)
B/E Aerospace | 176018-115, 176112-115, 176177-115, 176181-115, and 176529-97.

Subject

(d) Air Transport Association of America (ATA) Code 35: Oxygen.

Unsafe Condition

(e) This AD was prompted by the reported rupture of a high-pressure gaseous oxygen cylinder, which had insufficient strength characteristics due to improper heat treatment. We are issuing this AD to prevent an oxygen cylinder from rupturing, which, depending on the location, could result in structural damage and rapid decompression of the airplane, damage to adjacent essential flight equipment, deprivation of the necessary oxygen supply for the flightcrew, and injury to cabin occupants or other support personnel.

Compliance

(f) To address this problem, you must do the following, unless already done:

(1) Within 60 days after July 6, 2010 (the effective date of this AD), inspect the oxygen cylinder installed in the airplane to determine the serial number. The serial number is stamped into the steel cylinder near the neck. A review of airplane records is acceptable in lieu of this inspection if the serial number of the oxygen cylinder can be positively determined from that review. For any oxygen cylinder that has a serial number identified in Table 1 of this AD, before further flight, remove it from the airplane and replace it with a serviceable oxygen cylinder. Do the inspection and removal following B/E Aerospace Service Bulletin 176000-35-01, dated November 2, 2009; and Zodiac Aerospace AVOX Systems, Inc. Service Bulletin 6084-34-35-01, Revision 1, dated December 9, 2009, as applicable.

(2) As of July 6, 2010 (the effective date of this AD), do not install on any airplane a United States Department of Transportation Type 3HT oxygen cylinder that has a serial number identified in Table 1 of this AD.

Note: United States Department of Transportation hazardous materials regulations apply to the shipping of oxygen cylinders.

Alternative Methods of Compliance (AMOCs)

(g) The Manager, Standards Office, FAA, has the authority to approve AMOCs for this AD, if requested using the procedures found in 14 CFR 39.19. Send information to ATTN: David Hirt, Aerospace Engineer, FAA, Small Airplane Directorate, 901 Locust, Room 301, Kansas City, Missouri 64106; telephone: (816) 329-4050; fax: (816) 329-4090; e-mail: david.hirt@faa.gov. Before using any approved AMOC on any airplane to which the AMOC applies, notify your appropriate principal inspector (PI) in the FAA Flight Standards District Office (FSDO), or lacking a PI, your local FSDO.

Material Incorporated by Reference

(h) You must use B/E Aerospace Service Bulletin 176000-35-01, dated November 2, 2009; and Zodiac Aerospace AVOX Systems, Inc. Service Bulletin 6084-34-35-01, Revision 1, dated December 9, 2009, to do the actions required by this AD, unless the AD specifies otherwise.

(1) The Director of the Federal Register approved the incorporation by reference of this service information under 5 U.S.C. 552(a) and 1 CFR part 51.

(2) For service information identified in this AD, contact B/E Aerospace, Inc., Commercial Aircraft Products Group, RGA Department, 10800 Pflumm Road, Lenexa, Kansas 66215; telephone: (913) 338-9800; fax: (913) 338-8419; Internet: http://www.beaerospace.com; and AVOX Systems, 225 Erie Street, Lancaster, New York 14086-9502; telephone: (716) 683-5100; fax: (716) 681-1089; Internet: http://www.avoxsys.com, as applicable.

(3) You may review copies of the service information incorporated by reference for this AD at the FAA, Central Region, Office of the Regional Counsel, 901 Locust, Kansas City, Missouri 64106. For information on the availability of this material at the Central Region, call (816) 329-3768.

(4) You may also review copies of the service information incorporated by reference for this AD at the National Archives and Records Administration (NARA). For information on the availability of this material at NARA, call (202) 741-6030, or go to: http://www.archives.gov/federal_register/code_of_federal_regulations/ibr_locations.html.

Issued in Kansas City, Missouri, on May 13, 2010.
Kim Smith,
Manager, Small Airplane Directorate, Aircraft Certification Service.

[FR Doc. 2010-12173 Filed 5-28-10; 8:45 am]

BILLING CODE 4910-13-P